DEPARTMENT OF DEFENSE

Office of the Secretary

[Transmittal No. 24-108]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 24-108, Policy Justification, and Sensitivity of Technology.

Dated: January 8, 2026.
Stephanie J. Bost,
Alternate OSD Federal Register Liaison Officer, Department of Defense.

BILLING CODE 6001-FR-P

BILLING CODE 6001-FR-C

Transmittal No. 24-108

Notice of Proposed Issuance of Letter of Offer Pursuant to Section 36(b)(1) of the Arms Export Control Act, as amended

(i) Prospective Purchaser: Government of Greece

(ii) Total Estimated Value:

Major Defense Equipment * | $ 0
Other | $130 million
TOTAL | $130 million

Funding Source: Foreign Military Financing and National Funds

(iii) Description and Quantity or Quantities of Articles or Services under Consideration for Purchase: Foreign Military Sales (FMS) case GR-B-IAO was below congressional notification threshold at $99.99 million ($0 in MDE) and included M1117 wheeled Armored Security Vehicles (ASV) (through the Excess Defense Article program); MK19 Modification (MOD) 4 Up-Gunned Weapon Systems (UGWS); Concurrent Spare Parts (CSP) packages; spare barrels; United States (U.S.) Government and contractor vehicle spare parts; vehicle Special Tools and Test Equipment (STTE); vehicle Basic Issue Items (BII); Simplified Nonstandard Acquisition Program (SNAP) spare parts; U.S. Government case management and technical assistance; facility-required equipment; New Equipment Training (NET); Field Service Representative support; Joint Visual Inspection with U.S. Army Tank-Automotive and Armaments Command (TACOM) technical assistance; Packaging, Crating, and Handling with follow-on transportation; and other related elements of logistics and program support.

The Government of Greece has requested that the case be amended to include Aerosonde Uncrewed Aircraft Systems (UAS) with Lycoming heavy-fuel engines; Global Positioning System (GPS) with Selective Availability Anti-Spoofing Module (SAASM) or M-Code; TASE400 Electro Optical (E.O.)/Medium Wave Infrared (MWIR)/Long-Range Spotter-High Definition (LRS-HD) payloads; avionics; video and telemetry datalink subsystems and secondary payload bays; Ground Control Stations; ground data terminals; launch and recovery trailers; ground support equipment; “fly as you drive” M1117 ASV interface kits and integration; initial spares package; initial spares replenishment; new equipment training; program management support; contractor logistics support and Field Service Representative support; technical data and publications; quality assurance services; U.S. Government and contractor engineering, technical, and logistics support services; and other related elements of logistics and program support. This amendment will cause the case to exceed the notification threshold, and thus notification of the entire program is required. The above notification requirements are combined as follows:

Major Defense Equipment (MDE):

None

Non-Major Defense Equipment:

The following non-MDE items will be included: M1117 wheeled Armored Security Vehicles (ASV) (through the Excess Defense Article program); MK19 Modification (MOD) 4 Up-Gunned Weapon Systems (UGWS); Concurrent Spare Parts (CSP) packages; spare barrels; U.S. Government and contractor vehicle spare parts; vehicle Special Tools and Test Equipment (STTE); vehicle Basic Issue Items (BII); Simplified Nonstandard Acquisition Program (SNAP) spare parts; U.S. Government case management and technical assistance; facility-required equipment; New Equipment Training (NET); Field Service Representative support; Joint Visual Inspection with U.S. Army Tank-Automotive and Armaments Command (TACOM) technical assistance; Packaging, Crating, and Handling with follow-on transportation; and other related elements of logistics and program support; Aerosonde Uncrewed Aircraft Systems (UAS) with Lycoming heavy-fuel engines; Global Positioning System (GPS) with Selective Availability Anti-Spoofing Module (SAASM) or M-Code; TASE400 Long-Range Spotters; avionics; video and telemetry datalink subsystems; Ground Control Stations; ground data terminals; launch and recovery trailers; ground support equipment; “fly as you drive” M1117 ASV interface kits and integration; initial spares package; initial spares replenishment; new equipment training; program management support; contractor logistics support and Field Service Representative support; technical data and publications; quality assurance services; U.S. Government and contractor engineering, technical, and logistics support services; and other related elements of logistics and program support.

(iv) Military Department: Army (GR-B-IAO)

(v) Prior Related Cases, if any: None

(vi) Sales Commission, Fee, etc., Paid, Offered, or Agreed to be Paid: None known

(vii) Sensitivity of Technology Contained in the Defense Article or Defense Services Proposed to be Sold: See Attached Annex

(viii) Date Report Delivered to Congress: December 20, 2024

* as defined in Section 47(6) of the Arms Export Control Act.

POLICY JUSTIFICATION

Greece—Aerosonde Uncrewed Aircraft Systems and Armored Security Vehicles

The Government of Greece has requested to buy Aerosonde Uncrewed Aircraft Systems (UAS) with Lycoming heavy-fuel engines; Global Positioning System (GPS) with Selective Availability Anti-Spoofing Module (SAASM) or M-Code; TASE400 Long-Range Spotters; avionics; video and telemetry datalink subsystems; Ground Control Stations; ground data terminals; launch and recovery trailers; ground support equipment; “fly as you drive” M1117 ASV interface kits and integration; initial spares package; initial spares replenishment; new equipment training; program management support; contractor logistics support and Field Service Representative support; technical data and publications; quality assurance services; U.S. Government and contractor engineering, technical, and logistics support services; and other related elements of logistics and program support, that will be added to a previously implemented case whose value was under the congressional notification threshold.

The original Foreign Military Sales (FMS) case, valued at $99.99 million ($0 in MDE), included M1117 wheeled Armored Security Vehicles (ASV) (through the Excess Defense Article program); MK19 Modification (MOD) 4 Up-Gunned Weapon Systems (UGWS); Concurrent Spare Parts (CSP) packages; spare barrels; U.S. Government and contractor vehicle spare parts; vehicle Special Tools and Test Equipment (STTE); vehicle Basic Issue Items (BII); Simplified Nonstandard Acquisition Program (SNAP) spare parts; U.S. Government case management and technical assistance; facility-required equipment; New Equipment Training (NET); Field Service Representative support; Joint Visual Inspection with U.S. Army Tank-Automotive and Armaments Command (TACOM) technical assistance; Packaging, Crating, and Handling with follow-on transportation; and other related elements of logistics and program support. The estimated total cost is $130 million.

This proposed sale will support the foreign policy and national security of the U.S. by improving the security of a NATO Ally that continues to be a force for political and economic stability in Europe.

The proposed sale will improve Greece's capability to deter current and future threats, support coalition operations, and increase interoperability with the U.S. Greece will have no difficulty absorbing this equipment into its armed forces.

The proposed sale of this equipment and support will not alter the basic military balance in the region.

The principal contractor will be Textron Systems, located in Hunt Valley, MD. There are no known offset agreements in connection with this potential sale.

Implementation of this proposed sale will require approximately eighteen U.S. Government and/or eighteen contractor representatives to travel to Greece for an extended period for equipment de-processing and fielding, system checkout, training, and technical and logistics support.

There will be no adverse impact on U.S. defense readiness as a result of this proposed sale.

Transmittal No. 24-108

Notice of Proposed Issuance of Letter of Offer Pursuant to Section 36(b)(1) of the Arms Export Control Act

Annex

Item No. vii

(vii) Sensitivity of Technology:

1. The NovAtel OEM625S Global Positioning System (GPS) receiver is a small form factor combination of robust Selective Availability Anti-Spoofing Module (SAASM) GPS positioning. When keyed, the OEM625S provides a Real-Time Kinematic (RTK) Precise Positioning System (PPS) solution.

2. The highest level of classification of defense articles, components, and services included in this potential sale is SECRET.

3. If a technologically advanced adversary were to obtain knowledge of the specific hardware and software elements, the information could be used to develop countermeasures that might reduce weapon system effectiveness or be used in the development of a system with similar or advanced capabilities.

4. A determination has been made that Greece can provide the same degree of protection for the sensitive technology being released as the U.S. Government. This sale is necessary in furtherance of the U.S. foreign policy and national security objectives outlined in the Policy Justification.

5. All defense articles and services listed in this transmittal are authorized for release and export to the Government of Greece.

[FR Doc. 2026-00368 Filed 1-9-26; 8:45 am]

BILLING CODE 6001-FR-P